DEPARTMENT OF THE INTERIOR

National Park Service

[NPS-WASO-NAGPRA-NPS0026101; PPWOCRADN0-PCU00RP14.R50000]

Notice of Inventory Completion: Haffenreffer Museum of Anthropology, Brown University, Bristol, RI

AGENCY: National Park Service, Interior.

ACTION: Notice.

SUMMARY: The Haffenreffer Museum of Anthropology, Brown University, has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Haffenreffer Museum of Anthropology, Brown University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Haffenreffer Museum of Anthropology, Brown University at the address in this notice by October 10, 2018.

ADDRESSES: Thierry Gentis, NAGPRA Coordinator c/o. Haffenreffer Museum of Anthropology, Brown University, 300 Tower Street, Bristol, RI 02809, telephone (401) 863-5700, email thierry_gentis@brown.edu.

SUPPLEMENTARY INFORMATION: Notice is here given in accordance with the Native American Graves Protection and Repatriation Act (NAGPRA), 25 U.S.C. 3003, of the completion of an inventory of human remains and associated funerary objects under the control of the Haffenreffer Museum of Anthropology, Brown University, Bristol, RI. The human remains and associated funerary objects were removed from: Prudence Island in Bristol County, RI; East Greenwich in Kent County, RI; Block Island in Newport County, RI; Rumford in Providence County, RI; and Charleston in Washington County, RI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the professional staff of the Haffenreffer Museum of Anthropology, Brown University, in consultation with representatives of the Narragansett Indian Tribe.

History and Description of the Remains

At an unknown time, human remains representing, at minimum, one individual were removed by an unknown individual from Little Narrows Farm, Prudence Island in Bristol County, RI. The human remains, consisting of a cranium of a female of undetermined age, were donated by Stella Paine to the Haffenreffer Museum in 1957. They were said to have been removed from the “slave burial ground” cemetery for Little's Narrow Farm and “neighbors.” No known individuals were identified. No associated funerary objects are present.

Osteological characteristics indicate that the individual is Native American. The interment most likely dates to the late Woodland period or later (A.D. 1000-1650). Oral tradition and historical documentation indicate that Little Narrows Farm, Prudence Island in Bristol County, RI, is located within the aboriginal and historic homeland of the Narragansett Indian Tribe. Oral history provided during consultation with the Narragansett Indian Tribe confirms that the individual is Narragansett.

In 1964, human remains representing, at minimum, six individuals were removed from Green's Corner, East Greenwich in Kent County, RI, by William S. Simmons, and were donated to the Haffenreffer Museum by Mrs. Roderick Cruden. A letter from William S. Simmons to Mrs. Roderick Cruden dated September 13, 1964 states, “The skeletons have been examined and one skull reconstructed. Four and perhaps even more Indians were uncovered in your foundation . . .” The human remains include most of a male post-cranial skeleton (excluding ribs); miscellaneous post-cranial elements of an individual of indeterminate sex; miscellaneous post-cranial elements of a female; assorted post-cranial bones of at least two individuals (cranial, mandibular fragments, and teeth), and cranial, mandibular fragments, and teeth of one individual. No known individuals were identified. The 18 associated funerary objects are one clay pipe stem, one chipped pebble of English flint, one cylindrical shell bead, eight metal fragments, one square copper plate with rivet holes, one cylindrical bead of blue glass, four cylindrical beads of deep red glass, and one unfinished purple shell bead.

Osteological characteristics indicate that the six individuals are Native American. The interment most likely dates to the late Woodland period or later (A.D. 1000-1676). The associated funerary objects date the burial to the 17th century. Oral tradition and historical documentation indicate that Green's Corner, East Greenwich in Kent County, RI, is located within the aboriginal and historic homeland of the Narragansett Indian Tribe. Oral history provided during consultation with the Narragansett Indian Tribe confirms that the six individuals are Narragansett.

In 1920, human remains representing, at minimum, one individual were removed from Block Island in Newport County, RI. The nearly complete male skeleton was removed by Simon Ball. Charles F. Perry, MD donated these remains to Rudolf F. Haffenreffer in October of 1929, through an attorney named John T. Coughlin. No known individuals were identified. No associated funerary objects are present.

Osteological characteristics indicate that the individual is Native American. The interment most likely dates to the late Woodland period or later (A.D. 1000-1650). Oral tradition and historical documentation indicate that Block Island in Newport County, RI, is located within the aboriginal and historic homeland of the Narragansett Indian Tribe. Oral history provided during consultation with the Narragansett Indian Tribe confirms that the individual is Narragansett.

In 1927, human remains representing, at minimum, one individual were removed from Rumford in Providence County, RI, by an unknown individual while digging a cesspool, and were donated to Rudolf F. Haffenreffer. The human remains consist of cranial and post-cranial the remains of an adult male. No known individuals were identified. The one associated funerary object is a flat bone object, possibly a whale rib, cut transversely and broken in two pieces.

Osteological characteristics indicate that the individual is Native American. Based on the associated funerary object, the interment most likely dates to the late Woodland period or later (A.D. 1000-1650). Oral tradition and historical documentation indicate that Rumford in Providence County, RI, is located within the aboriginal and historic homeland of the Narragansett Indian Tribe. Oral history provided during consultation with the Narragansett Indian Tribe confirms that the individual is Narragansett.

In 1953, human remains representing, at minimum, one individual were removed from Charleston in Washington County, RI, by an unknown individual, and were donated to Rudolf F. Haffenreffer. The human remains comprise a nearly complete female skeleton. No known individuals were identified. The five associated funerary objects are one quartz flake, one quahog shell and three copper sheet fragments.

Osteological characteristics indicate that the individual is Native American. Based on the associated funerary objects, the interment most likely dates to the Historic Contact period (post -A.D. 1500). The three copper sheet fragments confirm a post-contact date. Oral tradition and historical documentation indicate that Charleston in Washington County, RI, is located within the aboriginal and historic homeland of the Narragansett Indian Tribe. Oral history provided during consultation with the Narragansett Indian Tribe confirms that the individual is Narragansett.

Determinations Made by the Haffenreffer Museum of Anthropology, Brown University

Officials of the Haffenreffer Museum of Anthropology, Brown University have determined that:

• Pursuant to 25 U.S.C. 3001(9), the human remains described in this notice represent the physical remains of 10 individuals of Native American ancestry.

• Pursuant to 25 U.S.C. 3001(3)(A), the 24 objects described in this notice are reasonably believed to have been placed with or near individual human remains at the time of death or later as part of the death rite or ceremony.

• Pursuant to 25 U.S.C. 3001(2), there is a relationship of shared group identity that can be reasonably traced between the Native American human remains and associated funerary objects and the Narragansett Indian Tribe.

Additional Requestors and Disposition

Lineal descendants or representatives of any Indian Tribe or Native Hawaiian organization not identified in this notice that wish to request transfer of control of these human remains and associated funerary objects should submit a written request with information in support of the request to Thierry Gentis, NAGPRA Coordinator c/o. Haffenreffer Museum of Anthropology, Brown University, 300 Tower Street, Bristol, RI 02809, telephone (401) 863-5700, email thierry_gentis@brown.edu, by October 10, 2018. After that date, if no additional requestors have come forward, transfer of control of the human remains and associated funerary objects to the Narragansett Indian Tribe may proceed.

The Haffenreffer Museum of Anthropology, Brown University, is responsible for notifying the Narragansett Indian Tribe that this notice has been published.

Dated: July 25, 2018.
Melanie O'Brien,
Manager, National NAGPRA Program.

[FR Doc. 2018-19527 Filed 9-7-18; 8:45 am]

BILLING CODE 4312-52-P